DEPARTMENT OF LABOR

Office of the Secretary

Submission for OMB Review: Comment Request

July 11, 2006.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained by contacting Darrin King on 202-693-4129 (this is not a toll-free number) or e-mail: king.darrin@dol.gov.

Comments should be sent to Office of Information and Regulatory Affairs, Attn: OMB Desk Officer for the Bureau of Labor Statistics (BLS), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Extension of a currently approved collection.

Title: General Inquiries to State Agency Contacts.

OMB Number: 1220-0168.

Type of Response: Reporting.

Affected Public: State, Local, or Tribal Government.

Frequency: As needed.

Number of Respondents: 55.

Total Annual Responses: 23,890.

Estimated Total Annual Burden Hours: 15,762.

Estimate Average Response Time: 40 minutes.

Total Annualized capital/startup costs: $0.

Total Annual Costs (operating/maintaining systems or purchasing services): $0.

Description: The Bureau of Labor Statistics (BLS) awards funds to State Agencies in order to assist them in operating one or more of seven Labor Market Information and/or Occupational Safety and Health Statistics Federal/State cooperative statistical programs. To ensure a timely flow of data and to be able to evaluate and improve the programs it is necessary to conduct ongoing communications between BLS and its State partners dealing with, for example, deliverables, program enhancements, and administrative issues.

Agency: Bureau of Labor Statistics.

Type of Review: Extension of a currently approved collection.

Title: BLS Occupational Safety and Health Statistics (OSHS) Cooperative Agreement (CA) Application Package.

OMB Number: 1220-0149.

Type of Response: Reporting and Recordkeeping.

Affected Public: State, Local, or Tribal Government.

Frequency: Quarterly and Annually.

Number of Respondents: 56.

Total Annual Responses: 280.

Estimated Total Annual Burden Hours: 336.

Estimate Average Response Time: 3 hours.

Total Annualized capital/startup costs: $0.

Total Annual Costs (operating/maintaining systems or purchasing services): $0.

Description: The BLS signs cooperative agreements with states, and political subdivisions thereof, to assist them in developing and administering programs that deal with occupational safety and health statistics and to arrange through these agreements for the research to further the objectives of the Occupational Safety and Health Act. The OSHS CA application package is representative of the package sent every year to State agencies and is, therefore, considered a “generic” package. The work statements are not the actual work statements that the applicants will see in subsequent fiscal years. Substantive changes to the work statements will be reviewed separately by OMB annually.

Darrin A. King,
Acting Departmental Clearance Officer.

[FR Doc. E6-11213 Filed 7-14-06; 8:45 am]

BILLING CODE 4510-24-P